DEPARTMENT OF THE INTERIOR

Bureau of Land Management

[OR-030-1020-PG; HAG 08-0063]

Meeting Notice for the John Day/Snake Resource Advisory Council

AGENCY: Bureau of Land Management (BLM), Vale District.

SUMMARY: The John Day/Snake Resource Advisory Council (JDSRAC) meeting is scheduled for April 4, 2008, in Pendleton, Oregon.

The John Day/Snake Resource Advisory Council meeting is scheduled for April 4, 2008. The meeting will take place at the Oxford Suites, 2400 SW Court, Pendleton, OR from 8 a.m. to 4 p.m. The meeting may include such topics as Forest and Resource Management Planning, Salmon Recovery, Transportation Planning, and other matters as may reasonably come before the council.

The meeting is open to the public. Public comment is scheduled for 1 p.m. to 1:15 p.m. (Pacific Time) April 4, 2008. For a copy of the information to be distributed to the Council members, please submit a written request to the Vale District Office 10 days prior to the meeting.

FOR FURTHER INFORMATION CONTACT: Additional information concerning the John Day/Snake Resource Advisory Council may be obtained from Mark Wilkening, Public Affairs Officer, Vale District Office, 100 Oregon Street, Vale, Oregon 97918, (541) 473-6218 or e-mail mark_wilkening@blm.gov.

Dated: February 27, 2008.
David R. Henderson,
District Manager.

[FR Doc. E8-5638 Filed 3-19-08; 8:45 am]

BILLING CODE 4310-33-P